DEPARTMENT OF THE INTERIOR

Geological Survey

[GX17GG00995TR00]

Announcement of Scientific Earthquake Studies Advisory Committee Meeting

AGENCY: U.S. Geological Survey, Department of the Interior.

ACTION: Notice of meeting.

SUMMARY: The Scientific Earthquake Studies Advisory Committee (SESAC) will hold its next meeting in the Mesa Room of the Golden Hotel at 800 11th Street, Golden, Colorado. The Committee is comprised of members from academia, industry, and State government. The Committee shall advise the Director of the U.S. Geological Survey (USGS) on matters relating to the USGS's participation in the National Earthquake Hazards Reduction Program. The Committee will receive reports on the status of activities of the Program and progress toward Program goals and objectives. The Committee will assess this information and provide guidance on the future undertakings and direction of the Earthquake Hazards Program. Focus topics for this meeting include a program review and strategic planning for 2016-2018.

DATES: The meeting will be held from 9:00 a.m. to 5:00 p.m. on November 7-8, 2016.

FOR FURTHER INFORMATION CONTACT: Dr. William Leith, U.S. Geological Survey, MS 905, 12201 Sunrise Valley Drive, Reston, Virginia 20192, (703) 648-6786, wleith@usgs.gov.

SUPPLEMENTARY INFORMATION: Meetings of the Scientific Earthquake Studies Advisory Committee are open to the public.

Authority: Public Law 106-503.

William Leith,
Senior Science Advisor for Earthquake and Geologic Hazards.

[FR Doc. 2016-24226 Filed 10-5-16; 8:45 am]

BILLING CODE 4338-11-P